DEPARTMENT OF ENERGY

Federal Energy Regulatory Commission

[Docket No. IC26-6-000]

Commission Information Collection Activities (Ferc-515); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection FERC-515: Declaration of Intention. There are no proposed changes to this collection.

DATES: Comments on the collection of information are due April 20, 2026.

ADDRESSES: Please submit comments via email to DataClearance@FERC.gov. You must specify the Docket No. (IC26-6-000) and the FERC Information Collection number (FERC-515) in your email. If you are unable to file electronically, comments may be filed by USPS mail or by hand (including courier) delivery:

• Mail via U.S. Postal Service only, addressed to: Federal Energy Regulatory Commission, Secretary of the Commission, 888 First Street NE, Washington, DC 20426.

• Hand (including courier) delivery to: Federal Energy Regulatory Commission, Secretary of the Commission, 12225 Wilkins Avenue, Rockville, MD 20852.

Docket: To view information related to this docket, please visit https://elibrary.ferc.gov/eLibrary/search.

FOR FURTHER INFORMATION CONTACT: Kayla Williams may be reached by email at DataClearance@FERC.gov, or by telephone at (202)502-6468.

SUPPLEMENTARY INFORMATION:

Title: FERC-515 (Declaration of Intention).

OMB Control No.: 1902-0079.

Type of Request: Three-year extension of the FERC-515 information collection requirements with no changes to the current reporting requirements.

Abstract: The purpose of FERC-515 is to implement the information collections pursuant to Section 24 of the Federal Power Act (FPA). This statute authorizes the Commission to make a determination as to whether it has jurisdiction over a proposed water project pursuant to section 23(b) of the FPA. Entities intending to construct project works on certain waters must file a Declaration of Intention with the Commission. The information provided in the Declaration of Intention includes a written application, containing sufficient details to allow the Commission staff to research the jurisdictional aspects of the project. Commission staff will review maps, land ownership records, and other related information to establish whether or not there is Federal jurisdiction over the lands and waters affected by the project. A finding that the project is non-jurisdictional by the Commission eliminates a substantial paperwork burden for the applicant who might otherwise have to file for a license or exemption application.

Type of Respondents: Persons intending to construct project works on certain waters.

Estimate of Annual Burden.¹ The Commission estimates the annual public reporting burden and cost ² for the information collection as:

¹ Burden is defined as the total time, effort, or financial resources expended by persons to generate, maintain, retain, or disclose or provide information to or for a federal agency. See 5 CFR 1320 (2025) for additional information on the definition of information collection burden.

² Commission staff estimates that industry is similarly situated in terms of hourly cost (for wages plus benefits). Based on the Commission's FY (Fiscal Year) 2025 average cost (for wages plus benefits), $103/hour is used.

Number of respondents | Annual number of responses per respondent | Total number of responses | Average burden hours & cost ($) per response | Total annual burden hours & total annual cost ($) | Cost per respondent ($)
(1) | (2) | (1) * (2) = (3) | (4) | (3) * (4) = (5) | (5) ÷ (1)
4 | 1 | 4 | 80 hrs.; $8,240 | 320 hrs.; $32,960 | $8,240

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 10, 2026.
Debbie-Anne A. Reese,
Secretary.

[FR Doc. 2026-03010 Filed 2-13-26; 8:45 am]

BILLING CODE 6717-01-P